NATIONAL SCIENCE FOUNDATION

Advisory Committee for Geosciences; Notice of Meeting

In accordance with the Federal Advisory Committee Act (Pub. L. 92-463, as amended), the National Science Foundation (NSF) announces the following meeting:

Name and Committee Code: Advisory Committee for Geosciences (1755).

Date and Time:

November 3, 2022; 11 a.m.-4:30 p.m. EDT.

November 4, 2022; 11 a.m.-4:00 p.m. EDT.

Place: NSF 2415 Eisenhower Avenue, Alexandria, VA 22314/Virtual.

Meeting registration information is available on the GEO Advisory Committee website at https://www.nsf.gov/geo/advisory.jsp).

Type of Meeting: Open.

Contact Person: Melissa Lane, National Science Foundation, Room C 8000, 2415 Eisenhower Avenue, Alexandria, Virginia 22314; Phone 703-292-8500.

Minutes: May be obtained from the contact person listed above.

Purpose of Meeting: To provide advice, recommendations, and oversight on support for geoscience research and education including atmospheric, geo-space, earth, ocean, and polar sciences.

Agenda

November 3, 2022

• Directorate and NSF activities and plans

• Panel Discussion with NSF Program Officers on Broader Impacts

• Discussion of AC GEO Report on 21st Century Geosciences (September 2021)

November 4, 2022

• Review and Vote on OCE Integrative Programs Section COV Report/Response

• Update on NSF Learning Agenda Related to Climate Equity

• Meeting with the NSF Chief Operating Officer

• Action Items/Planning for Spring 2023 Meeting

Dated: 10/4/2022.
Crystal Robinson,
Committee Management Officer.

[FR Doc. 2022-21856 Filed 10-6-22; 8:45 am]

BILLING CODE 7555-01-P